DEPARTMENT OF ENERGY

Office of Science; Advanced Scientific Computing Advisory Committee

AGENCY: Department of Energy.

ACTION: Notice of open meeting cancellation.

On July 30, 2003, the Department of Energy published a notice of open meeting announcing a meeting of the Advanced Scientific Computing Advisory Committee 68 FR 44756. Today's notice is announcing the cancellation of the meeting scheduled for August 21-22, 2003, because the committee will not have a quorum of members for the meeting.

Issued in Washington, DC, on August 20, 2003.
Rachel M. Samuel,
Deputy Advisory Committee Management Officer.

[FR Doc. 03-21666 Filed 8-21-03; 9:45 am]

BILLING CODE 6450-01-P